DEPARTMENT OF AGRICULTURE

Animal and Plant Health Inspection Service

[Docket No. APHIS-2008-0119]

Implementation of Revised Lacey Act Provisions

AGENCY: Animal and Plant Health Inspection Service, USDA.

ACTION: Notice.

SUMMARY: The Food, Conservation, and Energy Act of 2008 amended the Lacey Act to provide, in part, that importers submit a declaration at the time of importation for certain plants and plant products. Enforcement of the declaration requirement began on April 1, 2009, and products requiring a declaration are being phased-in. The purpose of this notice is to inform the public of another phase of the Federal Government's enforcement schedule.

DATES: We will consider all comments that we receive on or before July 30, 2024.

ADDRESSES: You may submit comments by either of the following methods:

• Federal eRulemaking Portal: Go to http://www.regulations.gov. Enter APHIS-2008-0119 in the Search field. Select the Documents tab, then select the Comment button in the list of documents.

• Postal Mail/Commercial Delivery: Send your comment to Docket No. APHIS-2008-0119, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Erin Otto, National Policy Manager, Lacey Act Program, Compliance and Environmental Coordination Branch, PPQ, APHIS, 4700 River Road Unit 150, Riverdale, MD 20737; (301) 851-3881; Erin.M.Otto@usda.gov.

SUPPLEMENTARY INFORMATION:

Background

The Lacey Act (16 U.S.C. 3371 et seq.), first enacted in 1900 and significantly amended in 1981, is the United States' oldest wildlife protection statute. The Act combats trafficking in illegally taken wildlife, fish, or plants. The Food, Conservation and Energy Act of 2008, effective May 22, 2008, amended the Lacey Act by expanding its protection to a broader range of plants and plant products (section 8204, Prevention of Illegal Logging Practices). The Lacey Act now makes it unlawful to import, export, transport, sell, receive, acquire, or purchase in interstate or foreign commerce any plant, with some limited exceptions, taken, possessed, transported, or sold in violation of any law of the United States or an Indian tribe, or in violation of any State or foreign law that protects plants or that regulates certain specified plant-related activities. The Lacey Act also now makes it unlawful to make or submit any false record, account, or label for, or any false identification of, any plant.

In addition, section 3 of the Lacey Act, as amended, makes it unlawful, beginning December 15, 2008, to import certain plants, including plant products, without an import declaration. The declaration must contain the scientific name of the plant, value of the importation, quantity of the plant, and name of the country from which the plant was harvested. For paper and paperboard products containing recycled content, the declaration also must include the average percent of recycled content without regard for species or country of harvest. The plant import declaration requirement does not apply to plants used exclusively as packaging material to support, protect, or carry another item, unless the packaging material itself is the item being imported. Currently, enforcement of the declaration requirement is being phased in, as described in four notices we published in the Federal Register,¹ the first on February 3, 2009 (74 FR 5911-5913, Docket No. APHIS-2008-0119), the second on September 2, 2009 (74 FR 45415-45418, Docket No. APHIS-2008-0119), the third on February 6, 2015 (80 FR 6681-6683, Docket No. APHIS-2008-0119), and the fourth on July 2, 2021 (86 FR 35259-35261, Docket No. APHIS-2008-0119).

¹ To view these notices and the comments we received, go to http://www.regulations.gov and enter APHIS-2008-0119 in the Search field.

In our February 2009 notice, we committed to providing affected individuals and industry with at least 6 months' notice for any products that would be added to the phase-in schedule. The phased-in enforcement schedule began April 1, 2009. The most recent phase (VI) began on October 1, 2021. The enforcement schedule is available on the Animal and Plant Health Inspection Service (APHIS) website at https://www.aphis.usda.gov/aphis/ourfocus/planthealth/import-information/lacey-act. We continue to consider the applicability of the declaration requirement to products not included in the current phase-in schedule and we invite public comment on how the declaration requirement should be enforced as to these products.

Phase VII of the enforcement schedule, which would begin on December 1, 2024, is described below. We invite public comment on the products covered under this phase of the plan, as well as on whether any additional Harmonized Tariff Schedule (HTS) chapters should be included in the current phase-in schedule. Should there be additions to phase VII, we intend to provide at least 6 months' notice to persons and industries affected by those changes to facilitate compliance with the new requirements. Changes will be announced in the Federal Register. For the full description of the HTS chapters, please refer to the Harmonized Tariff Schedule at usitc.gov.

Ch. 12 Headings (Industrial or Medicinal Plants)

• 1211201090-wild ginseng roots

• 1211500000-ephedra

• 1211600000-bark of African cherry (Prunus africana)

Ch. 13 Headings (Lac, Gums, Resins, and Other Vegetable Saps and Extracts)

• 1302140100-vegetable saps and extracts of ephedra

Ch. 14 Headings (Vegetable Plaiting Materials)

• 1401-vegetable materials of a kind used for plaiting

• 1404903000-istle of a kind used primarily in brooms or in brushes, whether or not in hanks or bundles

• 1404904000-other vegetable materials used primarily in brooms or in brushes, whether or not in hanks or bundles

• 1404909020-raw canaigre, chestnut, curupay, divi-divi, eucalyptus, gall nuts, hemlock, larch, mangrove, myrobalan, oak, quebracho, sumac, tara, urunday, valonia, wattle materials of a kind used primarily in tanning

• 1404909040-other raw vegetable materials of a kind used primarily in dyeing or tanning

Ch. 33 Headings (Essential Oils)

• 3301295141-essential oils of sassafras including Ocotea cymbarum

• 3301295142-essential oils of vetiver

• 3301295150-other essential oils

• 3303001000-floral or flowers waters

• 3307410000-“agarbatti” and other odoriferous preparations which operate by burning

• 3307490000-other preparations for perfuming or deodorizing rooms, including odoriferous preparations used during religious rites

Ch. 36 Headings (Pyrotechnic Products)

• 3605000030-matches with natural wood stems

Ch. 38 Headings (Miscellaneous Chemical Products)

• 3805901000-pine oil

Ch. 42 Headings (Articles of Leather, Travel Goods, and Handbags)

• 4202392000-wood articles of a kind normally carried in the pocket or in the handbag

• 4202925000-musical instrument cases

• 4202929315-jewelry boxes, and similar containers of a kind normally sold at retail with their contents

Ch. 44 Headings (Wood and Articles of Wood)

• 4412 ²-plywood, veneered panels and similar laminated wood

² Currently, most of HTS chapter 4412 has already been implemented, with two specified exemptions (44129906 and 441229957). APHIS established the exemptions in 2009 as a temporary exception for plywood that contained composite material. Since then, APHIS has established a special use designation for such material and is therefore eliminating the exemptions, and the entire chapter will be covered.

• 4413-densified wood, in blocks, plates, strips or profile shapes

Ch. 45 Headings (Cork and Articles of Cork)

• 4501-natural cork, raw or simply prepared; waste cork; crushed, granulated, or ground cork

• 4503-articles of natural cork

Ch. 46 Headings (Basketware and Wickerwork)

• 460121-bamboo mats, matting, and screens

• 460122-rattan mats, matting, and screens

• 460129-mats, matting, and screens of other vegetable materials

• 460192-bamboo plaits and similar products of plaiting materials, whether or not assembled into strips; plaiting materials, plaits and similar products of plaiting materials, bound together in parallel strands or woven, in sheet form, whether or not being finished articles

• 460193-rattan plaits and similar products of plaiting materials, whether or not assembled into strips; plaiting materials, plaits and similar products of plaiting materials, bound together in parallel strands or woven, in sheet form, whether or not being finished articles

• 460194-plaits and similar products of plaiting materials, whether or not assembled into strips; plaiting materials, plaits and similar products of plaiting materials, bound together in parallel strands or woven, in sheet form, whether or not being finished articles of other vegetable materials

• 460211-bamboo basketwork, wickerwork and other articles

• 460212-rattan basketwork, wickerwork and other articles

• 4602190500-fishing baskets or creels of other vegetable materials

• 4602191200-willow baskets and bags, whether or not lined

• 4602193500-other willow or wood wickerwork

• 4602194500-other goods made from willow or wood plaits

• 4602196000-wickerwork of other vegetable materials

• 4602198000-other goods made from vegetable material plaits

Ch. 56 Headings (Nonwovens, Twine, Ropes, and Cables and Articles Thereof)

• 5608901000-fish netting and fishing nets of materials other than manmade materials

Ch. 64 Headings (Footwear)

• 64029923-footwear with a base or platform of wood with outer soles and uppers or rubber or plastics; and uppers of which over 90 percent of the external surface is rubber or plastics

• 64029925-footwear with a base or platform of cork with outer soles and uppers of rubber or plastics; and uppers of which over 90 percent of the external surface is rubber or plastics

• 64035111-footwear covering the ankle, with outer soles of leather, made on a base or platform of wood, not having an inner sole or a protective metal toe-cap

• 64035910-other footwear, with outer soles of leather made on a base or platform of wood, not having an inner sole or a protective metal toe-cap

• 64039111-other footwear covering the ankle made on a base or platform of wood, not having an inner sole or a protective metal toe-cap

• 64039910-other shoes made on a base or platform of wood, not having an inner sole or a protective metal toe-cap

• 64039920-other footwear made on a base or platform of wood

Ch. 66 Headings (Umbrellas)

• 6601-umbrellas and sun umbrellas

• 660320-umbrella frames, including frames mounted on shafts

• 66039041-umbrella handles, knobs, tips, and caps

Ch. 82 Headings (Tools and Cutlery)

• 820210-handsaws and parts thereof

• 820310-files, rasps, and similar tools

• 82032020-tweezers

• 8203206030-pliers

• 820520-hammers and sledgehammers, and parts thereof

• 820530-planes, chisels, gouges, and similar cutting tools for working wood, and parts thereof

• 820540-screwdrivers, and parts thereof

• 82055115-carving and butchers steels, with or without handles

• 8205513030-kitchen and table implements

• 8206-tools of two or more headings 8202 to 8205, put up in sets for retail sale

• 821110-sets of assorted knives

• 8211918030-steak knives

• 82119290-other knives with fixed blades

• 82119300-knives having other than fixed blades

• 821410-paper knives, letter openers, erasing knives, nonmechanical pencil sharpeners, and blades and parts thereof

• 821420-manicure or pedicure sets and instruments (including nail files), and parts thereof

• 82149030-cleavers with their handles

• 82159940-spoons and ladles with base metal (except stainless steel) or non-metal handles

Ch. 84 Headings (Machinery, Boilers, and Nuclear Reactors)

• 841891-furniture designed to receive refrigerating or freezing equipment

• 84189940-refrigerating or freezing equipment door assemblies incorporating more than one of the following: inner panel; outer panel; insulation; hinges; handles

• 8436800070-bee-keeping machinery

• 8436990030-parts of bee-keeping machinery

• 843840-brewery machinery

• 844520-textile spinning machines

• 8446100010-power looms for weaving fabrics of a width not exceeding 30 cm

• 8447119090-other circular knitting machines with circular diameter not exceeding 165 mm

• 8447129090-other circular knitting machines with circular diameter exceeding 165 mm

• 844811-dobbies and jacquards; card reducing, copying, punching or assembling machines for use with machines of heading 8444, 8445, 8446 or 8447

• 844833-spindles, spindle flyers, spinning rings, and ring travellers

• 8448420000-reeds for loom, healds, and heald-frames for weaving machines or of their auxiliary machinery

• 84509040-furniture designed to receive the machines of subheadings 8450.11 through 8450.20, inclusive

• 8451210090-other drying machines

• 8451906000-furniture designed to receive the drying machines of subheading 8451.21 or 8451.29

• 84529010-furniture, bases and covers for sewing machines, and parts thereof

• 8481805060-bath, shower, sink, and lavatory faucets

• 84819050-parts of hand operated and check appliances

Ch. 85 Headings (Electrical Machinery and Equipment)

• 851821-single loudspeakers, mounted in their enclosures

• 851822-multiple loudspeakers, mounted in the same enclosure

• 8538100000-boards, panels, consoles, desks, cabinets, and other bases for goods of heading 8537, not equipped with their apparatus

• 8543709810-amplifiers

• 8543709820-special effects pedals for use with musical instruments

Ch. 87 Headings (Vehicles)

• 87089450-steering wheels for other vehicles

• 871610-trailers and semi-trailers for housing or camping

• 871620-self-loading or self-unloading trailers and semi-trailers for agricultural purposes

• 8716390010-agricultural trailers

• 8716390020-trailers for use with vehicles of heading 8709

• 8716400000-other trailers and semi-trailers

• 87168010-farm wagons and carts

• 8716901090-parts of farm wagons and carts

Ch. 88 Headings (Aircraft and Spacecraft)

• 8802200115-airplanes and other aircraft with unladen weight not exceeding 450 kg

Ch. 89 Headings (Boats)

• 890110-cruise ships, excursion boats and similar vessels principally designed for the transport of persons; ferry boats of all kinds

• 890190-other vessels for the transport of goods and other vessels for the transport of both persons and goods

• 8902-fishing vessels, factory ships, and other vessels for processing or preserving fishery products

• 890321-sailboats, other than inflatable, with or without auxiliary motor of a length not exceeding 7.5 m

• 890322-sailboats, other than inflatable, with or without auxiliary motor of a length exceeding 7.5 m but not exceeding 9.2 m

• 890323-sailboats, other than inflatable, with or without auxiliary motor of a length exceeding 24 m

• 890331-motorboats, other than inflatable, not including outboard motorboats of a length not exceeding 7.5 m

• 890332-motorboats, other than inflatable, not including outboard motorboat of a length exceeding 7.5 m but not exceeding 24 m

• 890333-motorboats, other than inflatable, not including outboard motorboat of a length exceeding 24 m

• 89039305-canoes not of a type designed to be principally used with motors or sails of a length not exceeding 7.5 m

• 89039315-other row boats not of a type designed to be principally used with motors or sails of a length not exceeding 7.5 m

• 89039390-other vessels for pleasure or sports of a length not exceeding 7.5 m

• 89039906-other canoes

• 89039916-other rowboats

• 8903999100-other vessels

• 8904-tug boats and pusher crafts

• 8905901000-floating docks

Ch. 90 Headings (Optical, Photographic, Cinematographic, Measuring, Checking, Precision, Medical, or Surgical Instruments and Apparatus; Parts and Accessories Thereof)

• 900319-frames and mountings for spectacles, goggles or the like of non-plastics materials

• 900390-parts for spectacles, goggles or the like

• 900410-sunglasses

• 9005100040-prism binoculars

• 9005100080-other binoculars

• 90058040-optical telescopes

• 9005904000-parts and accessories (including mountings) incorporating goods of heading 9001 or 9002

• 900691-parts and accessories for cameras

• 90138020-hand magnifiers, magnifying glasses, loupes, thread counters and similar apparatus

• 90141060-gyroscopic compasses, other than electrical

• 90171080-other drafting tables and machines

• 9017204000-disc calculators, slide rules, and other mathematical calculating instruments

Ch. 91 Headings (Clocks and Watches)

• 910212-electrically operated wrist watches with opto-electric display only

• 91022902-straps, bands, or bracelets entered with watches of subheading 9102.29.04

• 9105195000-alarm clocks valued over $5 each

• 9105295000-wall clocks valued over $5 each

• 911180-other watch cases

• 91119070-other watch case parts

• 91122080-other clock cases and cases of a similar type for other goods of this chapter

• 911290-clock case parts

Ch. 92 Headings (Musical Instruments)

• 92059012-keyboard pipe organs

• 92059014-harmoniums and similar keyboard instruments with free metal reeds

• 92059015-piano accordions

• 92059018-accordions and similar instruments

• 92059019-mouth organs

• 92099180-other parts and accessories for pianos

• 92099905-metronomes, tuning forks, and pitch pipes

• 92099910-mutes for instruments; pedals, dampers and spurs for drums; pedals and holders for cymbals; lyres and other music holders for attachment to musical instrument; and collapsible stands for holding music or for holding musical instruments

• 92099961-parts for music boxes

Ch. 93 Headings (Arms and Ammunitions)

• 9301903020-rifles

• 93019060-shotguns

• 930310-muzzle-loading firearms

• 930320-other sporting, hunting, or target-shooting shotguns, including combination shotgun-rifles

• 9303304020-centerfire rifles valued over $25 but not over $50 each

• 9303304030-rimfire rifles valued over $25 but not over $50 each

• 9303308010-other autoloading centerfire rifles

• 9303308012-other single shot centerfire rifles

• 9303308017-other bolt action centerfire rifles

• 9303308025-other centerfire rifles

• 9303308030-other rimfire rifles

• 93039040-pistols and revolvers designed to fire only blank cartridges or blank ammunition

• 9303908000-other firearms

• 93052005-rifle stocks of shotguns or rifles of heading 9303

Ch. 94 Headings (Furniture, Bedding, Mattresses, and Similar Articles)

• 940131-swivel seats with variable height adjustment of wood

• 940152-bamboo seats

• 940153-rattan seats

• 940159-other seats of cane, osier, or similar materials

• 94016140-other upholstered chairs with wooden frames

• 94016160-other upholstered seats with wooden frames

• 9401790011-outdoor household seating with textile covered cushions or textile seating or backing material

• 9401790015-other outdoor seating with textile covered cushions or textile seating or backing material

• 9401790025-outdoor household seating

• 9401790035-other outdoor seating

• 9401806025-seats for children

• 9401806028-other household seating

• 94019115-wood parts of seats of a kind used in motor vehicles

• 94019190-other wood parts for seats

• 94019925-seat parts of cane, osier, bamboo or similar material

• 94033080-wooden furniture of a kind used in offices

• 94034060-wooden furniture of a kind used in the kitchen designed for motor vehicle use

• 94035060-wooden furniture of a kind used in the bedroom designed for motor vehicle use

• 94035090-wooden furniture of a kind used in the bedroom

• 94036080-other wooden furniture

• 94038200-bamboo furniture

• 94038300-rattan furniture

• 940389-other furniture of cane, osier, bamboo or similar materials

• 94039100-wood parts for furniture

• 94039920-furniture parts of cane, osier, bamboo or similar materials

• 940410-mattress supports

• 94051180-light fixtures of other materials

• 9405428410-other lighting sets

• 9406100000-prefabricated buildings made of wood

Ch. 95 Headings (Toys, Games, and Sporting Equipment)

• 9504300020-pinball machines and bell-type machines and consoles

• 9504300040-other games, operated by coins, banknotes, bank cards, tokens, or by any other means of payment, other than automatic bowling alley equipment

• 9504300060-parts and accessories of other games, operated by coins, banknotes, bank cards, tokens, or by any other means of payment, other than automatic bowling alley equipment

• 9504904000-game machines, other than those operated by coins, banknotes (paper currency), discs or similar articles; parts and accessories thereof

• 95049060-chess, checkers, parchisi, backgammon, darts and other games played on boards of a special design, all the foregoing games and parts there of (including their boards); mahjong and dominoes; any of the foregoing games in combination with each other, or with other games, packaged together as a unit in immediate containers of a type used in retail sales; poker chips and dice

• 9504909060-bowling equipment and parts and accessories thereof

• 95051015-Christmas ornaments of wood

• 95051030-nativity scenes and figures thereof

• 95061120-cross-country skis

• 95061140-other skis

• 95061160-parts and accessories of skis, not including ski poles

• 9506198040-ski poles and parts and accessories thereof

• 9506290020-water skis

• 9506290030-surf boards

• 950640-articles and equipment for table-tennis, and parts and accessories thereof

• 950651-lawn-tennis rackets, whether or not strung, and parts and accessories thereof

• 9506594080-other parts and accessories of badminton rackets not previously listed

• 9506990510-bows and bow parts

• 9506990520-arrows and arrow parts

• 95069915-baseball articles and equipment, except balls, and parts and accessories thereof

• 95069920-football, soccer, and polo articles and equipment, except balls, and parts and accessories thereof

• 95069925-ice-hockey and field-hockey articles and equipment, except balls and skates, and parts and accessories thereof

• 95069945-other items, including parts and accessories of sleds, bobsleds, toboggans, and the like

• 95071000-fishing rods and parts and accessories thereof

• 95079080-other items (including parts and accessories) of fishing rods and other line fishing tackle not previously listed

• 950810-traveling circuses and traveling menageries

• 950822-carousels, swings, and roundabouts

• 950829-other amusement park rides and water park amusements than previously listed

• 950830-fairground amusements

• 950840-traveling theaters

Ch. 96 Headings (Miscellaneous Manufactured Articles)

• 960310-brooms and brushes, consisting of twigs or other vegetable materials bound together, with or without handles

• 960330-artist brushes, writing brushes, and similar brushes for the application of cosmetics

• 96034020-paint rollers

• 9603404040-natural bristle brushes

• 9603404060-other paint, distemper, varnish, or similar brushes than previously listed

• 96039040-feather dusters

• 96039080-other brooms

• 9605-travel sets for personal toilet, sewing or shoe or clothes cleaning other than manicure and pedicure sets listed under heading 8214

• 96062960-other buttons

• 960810-ball point pens

• 960830-fountain pens, stylograph pens, and other pens

• 96084040-propelling or sliding pencils with a mechanical action for extending, or for extending and retracting, the lead

• 960910-pencils and crayons, with leads encased in a sheath

• 9610-slates and boards with writing or drawing surfaces, whether or not framed

• 9611-date, sealing or numbering stamps and the like (including devices for printing and embossing labels), designed for operating in the hand; hand-operated composing sticks and hand printing sets incorporating such composing sticks

• 961320-gas fueled, refillable pocket lighters

• 96140025-other pipe and pipe bowls of wood or root

• 96151940-combs and hair-slides valued over $4.50 per gross

• 96151960-other comb and hair-slides than previously listed

• 96159030-hair pins

• 96170010-vacuum flask vessels with parts other than glass inners having a capacity not exceeding 1 liter

• 96170030-vacuum flask vessels with parts other than glass inners having a capacity exceeding 1 liter but not 2 liters

• 96170040-vacuum flask vessels with parts other than glass inners having a capacity exceeding 2 liters

• 9618-tailors' dummies and other mannequins for shopwindow dressing

Additional Information

APHIS will continue to provide the latest information regarding the Lacey Act on our website, https://www.aphis.usda.gov/aphis/ourfocus/planthealth/import-information/lacey-act. The website currently contains the Lacey Act, as amended; requirements, commodities and products covered, information on prohibitions, and the current status of implementation of the declaration requirement of the Lacey Act; frequently asked questions; the implementation schedule; and a link to the Lacey Act Web Governance System (LAWGS). The website will be updated as new materials become available. We encourage persons interested in receiving timely updates on APHIS' Lacey Act efforts to register for our stakeholder registry at https://public.govdelivery.com/accounts/USDAAPHIS/subscriber/new/ and select “Lacey Act Declaration” as a topic of interest.

Paperwork Reduction Act

This notice contains no new information collection or recordkeeping requirements under the Paperwork Reduction Act of 1995 (44 U.S.C. 3501 et seq.). The information collection activities included in this notice are approved by the Office of Management and Budget under control number 0579-0349.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Information Collection Coordinator, at (301) 851-2533.

Done in Washington, DC, this 23rd day of May 2024.
Michael Watson,
Administrator, Animal and Plant Health Inspection Service.

[FR Doc. 2024-11901 Filed 5-30-24; 8:45 am]

BILLING CODE 3410-34-P